DEPARTMENT OF HEALTH AND HUMAN SERVICES

National Institutes of Health

Eunice Kennedy Shriver National Institute of Child Health and Human Development; Notice of Meeting

Pursuant to section 10(a) of the Federal Advisory Committee Act, as amended (5 U.S.C. App.), notice is hereby given of a meeting of the National Advisory Board on Medical Rehabilitation Research.

The meeting will be open to the public, with attendance limited to space available. Individuals who plan to attend and need special assistance, such as sign language interpretation or other reasonable accommodations, should notify the Contact Person listed below in advance of the meeting.

Name of Committee: National Advisory Board on Medical Rehabilitation Research.

Date: December 3-4, 2012.

Time: December 3, 2012, 8:30 a.m. to 5:00 p.m.

Agenda: NICHD Director's Report; NCMRR Director's Report; Discussion of the recommendations from the NIH Blue Ribbon Panel on Rehabilitation Research; and Promoting rehabilitation through Small Business Innovative Research (SBIR) Initiatives

Place: Hyatt Regency Bethesda Hotel, One Bethesda Metro Center, Bethesda, MD 20814.

Time: December 4, 2012, 8:30 a.m. to 12:00 p.m.

Agenda: Other business of the NABMRR.

Place: Hyatt Regency Bethesda Hotel, One Bethesda Metro Center, Bethesda, MD 20814.

Contact Person: Ralph M. Nitkin, Ph.D., Director, B.S.C.D., Biological Sciences and Career Development, NCMRR, Eunice Kennedy Shriver National Institute of Child Health and Human Development, NIH, DHHS, 6100 Executive Boulevard, Room 2A03, Bethesda, MD 20892-7510, (301) 402-4206, nitkinr@mail.nih.gov.

Information is also available on the Institute's/Center's home page: www.nichd.nih.gov/about/ncmrr.htm, where an agenda and any additional information for the meeting will be posted when available.

(Catalogue of Federal Domestic Assistance Program Nos. 93.864, Population Research; 93.865, Research for Mothers and Children; 93.929, Center for Medical Rehabilitation Research; 93.209, Contraception and Infertility Loan Repayment Program, National Institutes of Health, HHS)

Dated: November 6, 2012.
Michelle Trout,
Program Analyst, Office of Federal Advisory Committee Policy.

[FR Doc. 2012-27588 Filed 11-13-12; 8:45 am]

BILLING CODE 4140-01-P